DEPARTMENT OF VETERANS AFFAIRS

Notice of Funds Availability Inviting Applications for Grants for Transportation of Veterans in Highly Rural Areas; Amendment; Correction

AGENCY: Department of Veterans Affairs.

ACTION: Notice; extension of NOFA application deadline; Correction.

SUMMARY: The Department of Veterans Affairs (VA) published a notice extending the application deadline for funds available under the Grant Program for Transportation of Veterans in Highly Rural Areas in the Federal Register on September 13, 2013 (78 FR 56773), that contained an error. In the FOR FURTHER INFORMATION CONTACT section of the notice, VA announced that a copy of the Application Package can be downloaded directly from “http://www.ruralhealth.va.gov/coordination-pilot/index.asp”. It should have read, “http://www.grants.gov/web/grants/view-opportunity.html?oppId=237336“. This error is corrected by this notice.

FOR FURTHER INFORMATION CONTACT: Darren Wallace, National Coordinator, Highly Rural Transportation Grants, Veterans Transportation Program, Chief Business Office (10NB2G), 2957 Clairmont Road, Atlanta, GA 30329; (404) 828-5380 (this is not a toll-free number).

Correction

In FR Doc. 2013-22334, published on September 13, 2013, at 78 FR 56773, make the following correction:

On page 56773, in the third column, at the FOR FURTHER INFORMATION CONTACT heading, remove “http://www.ruralhealth.va.gov/coordination-pilot/index.asp” and add, in its place, “http://www.grants.gov/web/grants/view-opportunity.html?oppId=237336“.

Approved: September 13, 2013.
Robert C. McFetridge,
Director, Regulation Policy and Management, Office of the General Counsel, Department of Veterans Affairs.

[FR Doc. 2013-22699 Filed 9-17-13; 8:45 am]

BILLING CODE 8320-01-P